DEPARTMENT OF AGRICULTURE

Forest Service

RIN 0596-AC66

Land Management Plan Guidance

AGENCY: Forest Service, USDA.

ACTION: Notice of issuance of agency interim directive; request for comment.

SUMMARY: The Forest Service is issuing an interim directive revising Forest Service Handbook 1909.12, chapter 10, to guide agency employees in developing, amending, or revising land management plans for units of the National Forest System about the content of land management plans. The chapter focuses particularly on writing plan components, describing the monitoring program, and considering individual resources during the planning process. The intended effect of issuing this interim directive is to provide consistent, overall guidance to Forest Service line officers and agency employees. As an interim directive, the direction is effective immediately. Public comment is invited and will be considered in developing a final directive.

DATES: Interim directive number 1909.12-2008-2 is effective November 13, 2008. Comments must be received in writing by January 12, 2009.

ADDRESSES: Send written comments concerning this interim directive through one of the following methods: E-mail: PlanningDirective2008@fs.fed.us. Include “planning directives” in the subject line of the message. Fax: 202-205-1012. Please identify your comments by including “planning directives” on the cover sheet or the first page. Mail: Planning Directives; Forest Service; U.S. Department of Agriculture; Ecosystem Management Coordination; Mailstop 1104, 3rd Floor—Center Wing; Washington, DC 20250-1104. All comments, including names and addresses when provided, are placed in the record and are available for public inspection and copying. Persons wishing to inspect the comments are encouraged to call ahead (202-205-0895) to facilitate entrance into the building.

The directive is available electronically from the Forest Service via the World Wide Web/Internet at http://www.fs.fed.us/im/directives or at http://www.fs.fed.us/emc/nfma/index.htm. You may request a compact disc (CD) copy of the interim directive by contacting Regis Terney by email (rterney@fs.fed.us), by phone at 1-866-235-6652 or 202-205-0895, or by mail at Regis Terney; Forest Service; U.S. Department of Agriculture; Mailstop 1104, EMC, 3 Central; 1400 Independence Avenue, SW.; Washington, DC 20050-1104.

FOR FURTHER INFORMATION CONTACT: Regis Terney, Planning Specialist, Ecosystem Management Coordination Staff, 202-205-0895.

SUPPLEMENTARY INFORMATION: The Forest Service Directive System consists of the Forest Service Manual (FSM) and the Forest Service Handbook (FSH), which contain the Agency's policies, practices, and procedures and serve as the primary basis for the internal management and control of programs and administrative direction to Forest Service employees. The directives for all agency programs are set out on the World Wide Web/Internet at http://www.fs.fed.us/im/directives.

The FSM contains legal authorities, objectives, policies, responsibilities, instructions, and guidance needed on a continuing basis by Forest Service line officers and primary staff to plan and execute programs and activities, while the FSH is the principal source of specialized guidance and instruction for carrying out the policies, objectives, and responsibilities contained in the FSM.

On January 31, 2006, the Forest Service, U.S. Department of Agriculture, issued final agency directives for National Forest System Land Management Planning and published a notice of issuance of agency final directives in the Federal Register (71 FR 5124). The final agency directives included FSH 1909.12, chapter 10, “Land Management Plan.” On April 21, 2008, the Department replaced the planning rule for the National Forest System that it had issued in 2005 (2005 rule) (70 FR 1022,), as amended 71 FR 10837, March 3, 2006) with a new planning rule (73 FR 21468, 36 CFR part 219, subpart A). The 2008 planning rule provides broad programmatic direction in developing and carrying out land management planning. The rule explicitly directs the Chief of the Forest Service to establish planning procedures in the Forest Service Directive System (36 CFR 219.1(c)).

This interim directive makes necessary changes to FSH 1909.12, Land Management Planning Handbook, chapter 10, to clarify the procedures on writing plan components, on describing the monitoring program, and on considering individual resources to aid consistent interpretation and application of the direction by agency personnel. Our Washington Office review of several proposed land management plans showed that changes in procedural and technical details are necessary. These changes in procedural and technical details associated with carrying out the 2008 planning rule at 36 CFR part 219 are needed immediately for use by units beginning plan revisions or resuming plan revisions under the 2008 rule. Approximately 40 plan revision efforts are currently ongoing. The Forest Service expects 38 unit supervisors of the ongoing current plan revisions to use the 2008 planning rule to finish their plan revisions. In the next few months, many of these units will be developing plan components, monitoring programs, and considering individual resources in collaboration with the public. It is imperative that this direction is effective immediately so that units use the proper procedures.

Overview

The interim directive guides agency employees to develop, amend, or revise land management plans that meet the intent of the 2008 planning rule. The interim directive sets forth the common characteristics of all land management plans developed, amended and revised under the 2008 rule and adds new direction or clarifies existing direction.

Specifically, the interim directive focuses on writing plan components, describing the monitoring program, and considering individual resources. The interim directive sets forth direction that special areas are limited to existing categories established by Congress, the Department, or the Agency. The interim directive adds a list of the characteristics of standards; in addition, adds guidance on appropriate NEPA for standards. The interim directive sets forth direction for how to include other information besides plan components such as explanatory narrative and management approaches. The interim directive clarifies how projects or activities must be consistent with applicable plan components, as required by the NFMA (16 U.S.C. 1604(i)). The interim directive sets forth that the responsible official should use the “NFS LMP Monitoring and Evaluation Framework” when describing the monitoring program. The framework is available on the Agency Web site at http://www.fs.fed.us/emc/met/. The interim directive sets forth direction about soils. Finally, the interim directive clarifies direction for evaluation and establishing plan components for many individual resources including: Access, roads, trails, and travel management; air management; cultural resources; fire and fuels management; land use and special uses; minerals including energy minerals; paleontological resources; range management; recreation and scenery management; and water.

Section-by-Section Discussion

Section 10.2 Objectives. This section sets forth the objectives of this chapter. The interim directive removes obsolete direction on objectives and adds new direction on what employees should strive to accomplish by following direction in this chapter. This additional direction concerns adapting the plan to changing situations; carrying out the intent of the planning rule; including timber requirements in the content of the plan; and making wilderness recommendations, if appropriate. This section also reflects the nature of planning. The direction on adapting the plan to changing situations and the nature of planning is not new but is incorporated from the existing section 11 of chapter 10. Note that the heading “Objectives” here refers, not to the plan component but to the overall objectives of the chapter. “Objectives” is a standard section of Forest Service directives.

Section 10.4 Responsibility. This section describes the responsibilities of line officers. The interim directive adds direction to use a collaborative and participatory approach to plan development, plan amendment, and plan revision. This section sets forth responsibilities for about adapting the plan to changing situations, projects, and activities previously in section 11.

Section 11 Plan Components and Other Plan Contents. This section provides direction for writing plan components and other plan content. The interim directive removes direction about the nature of planning, about adapting the plan to changing situations, and about developing projects and activities because the direction was added to sections 10.2 and 10.4. Removes obsolete direction about developing budgets.

Section 11.1 Plan Components. This section describes appropriate desired conditions, objectives, guidelines, suitability of areas, special areas, and standards. The interim directive removes direction that a plan must include provisions required by 16 U.S.C. 1604 and 1611 and substitutes the requirement that the plan must include resource management provisions required by 36 CFR 219.9(b). The interim directive adds direction that plan components should not include explanatory narrative. The interim directive adds the definition of geographic areas. The interim directive removes obsolete reference to technical guide “Developing Plan Components with Examples.”

Section 11.1, Exhibit 01, Sample Plan Components. The interim directive revised the examples of plan components that had been in this exhibit in the existing FSH chapter 10.

Section 11.11 Desired Conditions. The interim directive clarifies and adds direction so that desired conditions are written to meet the intent of the planning rule. The interim directive adds a list of the characteristics of desired conditions.

Section 11.12 Objectives. The interim directive clarifies and adds direction so that objectives are written to meet the intent of the planning rule. The interim directive adds a list of the characteristics of objectives.

Section 11.13 Guidelines. The interim directive clarifies and adds direction so that guidelines are written to meet the intent of the planning rule. The interim directive adds a list of the characteristics of guidelines.

Section 11.14 Suitability of Areas. The interim directive clarifies and adds direction so that identifications of suitability of areas are written to meet the intent of the planning rule. The interim directive adds that plans may identify areas as “not generally suitable” for uses. The interim directive adds that any substantive change in plan suitability for timber production may only be made by a plan amendment. The interim directive clarifies that identification in a plan of suitability is tentative and final suitability is determined when projects and activities are approved.

Section 11.15 Special Areas. The interim directive clarifies and adds direction so that identification of special areas meets the intent of the planning rule. The interim directive adds that the intent to include special areas in plans is not to expand special areas into new categories, but rather to assure that plans recognize existing categories established by Congress, the Department, or the Agency. The interim directive adds direction to deal with the situation where the responsible official lacks authority to designate a special area. The interim directive removed direction about proposed adjustments in national forest boundaries (now discussed in section 13.13f of the interim directive). The interim directive adds direction that a plan may establish other plan components for special areas. The interim directive adds direction that if an area does not meet the qualifications for a special area it may be identified as a management area.

Section 11.5, Exhibit 01, Special Area—Designating Official and Guidance Cross-Reference. The interim directive adds the following areas to the list of potential special areas: historical area, national heritage area, paleontological area, recreational area, scenic area, and zoological area. The interim directive clarifies the designation authority for these areas.

Section 11.16 Standards. This is a new section, which sets forth direction for writing standards in accordance with 36 CFR 219.7(a)(3). The interim directive adds a list of the characteristics of standards; adds guidance about actions that are not standards, and adds guidance on NEPA compliance and standards. Also, adds guidance on retaining, revising, or removing existing standards based on the Federal Register notice for “National Environmental Policy Act Documentation Needed for Developing, Revising, or Amending Land Management Plans; Categorical Exclusion” (71 FR 75481, December 15, 2006, page 75486).

Section 11.2 Project and Activity Consistency with the Plan. This section was section 11.4 in the existing chapter 10 of this handbook. The “Plan Consistency Template” has also been moved to this section, from section 11.4 in the existing chapter. This section modifies the wording to clarify how projects or activities must be consistent with applicable plan components similar to the tentative wording set out in the preamble to the final rule, Volume 73 of the Federal Register, page 21491, April 21, 2008. This section clarifies the previous direction and adds new wording in the template that explains how projects and activities are consistent with applicable components, including standards.

Section 11.3 Possible Actions. This section was section 11.2 in the prior chapter 10 of this handbook. This section modifies the wording of the prior section to meet the intent of section 6(f)(2)(g) of the National Forest Management Act (16 U.S.C. 1604(f)(2)), which states plans shall “be embodied in appropriate written material, * * * reflecting proposed and possible actions, including the planned timber sale program and the proportion of timber harvest within the unit necessary to fulfill the plan.”

Section 11.4 Plan Guidance for Special Conditions or Situations. This section sets forth the guidance for special conditions or situations that was previously in section 11.3.

Section 11.5 Other Information. This new section sets forth direction for including “other information” in plans in addition to plan components such as: explanatory narrative, general management principles, management approaches, management challenges, referenced material, or roles and contributions.

Section 11.6 Management Approaches. This new section sets forth direction for including “management approaches” in plans.

Section 12 Monitoring. The interim directive clarifies and adds additional direction about using the monitoring and evaluation framework described in the “NFS LMP Monitoring and Evaluation Framework” available on the Agency Web site at http://www.fs.fed.us/emc/met/. The interim directive removes the requirement that monitoring must “address the minimum timber management requirements of the National Forest Management, for example, restocking, cut block size and shape, and watershed protection.” The interim directive adds the requirement that monitoring should focus on where there is substantial uncertainty over the effectiveness of a plan component in contributing to the achievement or maintenance of desired conditions.

Section 12, Exhibit 01, Example of a Subset of a Monitoring Program for a Plan. The interim directive clarifies the examples of desired conditions and questions in the example of a monitoring program in a plan.

Section 12.1 Selecting Monitoring Questions. This section had been captioned “Monitoring Questions” in the existing chapter 10 of this handbook. The interim directive changes the discussion from screening monitoring questions to selecting monitoring questions.

Section 12.2 Performance Measures. The interim directive clarifies the discussion of performance measures and adds a definition of performance measures. The interim directive adds that measures should be based on standardized data in corporate data systems or other official sources.

Section 12.3 Documents Associated with the Monitoring Program. This section had been captioned “Documenting the Monitoring Program” in the existing chapter 10 of this handbook. The interim directive clarifies the description of the annual evaluation report, comprehensive evaluation report, monitoring guide, and annual monitoring work plan.

Section 13 Consideration of Individual Resources. The interim directive clarifies the references to direction in other chapters of this handbook for considering social, economic, and ecological sustainability; timber; wilderness; and wild and scenic rivers. To simplify the discussion and to be clear, the interim directive removes the obsolete discussion of three phases of the planning process: initial evaluation to determine the need for change, evaluation of plan components, and integration into the plan. Direction about the responsible official identifying and selecting the parameters for evaluation has been added to section 13.1.

Section 13.1 Resource Considerations. The interim directive adds direction to evaluate sustainability within an area large enough to consider broad-scale social, economic, and ecological factors and trends over large landscapes based on policy of FSM 1920.3.

Section 13.11a Paleontological Resources. The interim directive revised the discussion of paleontological resources from focus on special areas to a focus on desired conditions and objectives for paleontological resources.

Section 13.11b Air Management. The interim directive revises caption from “Air” to “Air Management” and clarifies the direction for evaluation and establishing plan components for air management.

Section 13.11 Water. The interim directive clarifies direction for evaluation and establishing plan components for water.

Section 13.11d Soil. This new section codes and sets forth direction for evaluation and establishing plan components for soil.

Section 13.12a Fire and Fuels Management. This section had been captioned “Fire, Aviation, and Fuels Management” in the existing chapter 10 of this handbook. The interim directive clarifies direction for evaluation and establishing plan components for fire and fuels management. The interim directive adds examples of desired conditions and guidelines for fire and fuels management.

Section 13.12b Large Fire Cost Containment. The interim directive clarifies direction for large fire cost containment. The interim directive removes reference to wildland fire situation analysis and wildland fire implementation plan.

Section 13.12c Wildlife and Fisheries. No change to this section.

Section 13.13a Recreation and Scenery Management. This section had been captioned “Recreation and Scenery” in the existing chapter 10 of this handbook. The interim directive clarifies direction for recreation and scenery management in the planning process.

Section 13.13b Cultural Resources. The interim directive revises caption from “Heritage Resources” to “Cultural Resources.” The interim directive clarifies direction for cultural resources in the planning process.

Section 13.13c Minerals Including Energy Minerals. This section was section 13.3d of the existing chapter 10 of this handbook. The interim directive adds direction for establishing desired conditions, objectives, and guidelines for minerals. The interim directive clarifies existing direction about recognizing minerals in the planning process previously contained at section 13.13d.

Section 13.13d Range Management. This section was section 13.3e of the existing chapter 10 of this handbook. The interim directive clarifies existing direction about range management and wild horse-burro territory boundaries in the planning process.

Section 13.13e Access, Roads, Trails, or Travel Management. This section was section 13.13f of the existing chapter 10 of this handbook. The interim directive clarifies existing direction about access, roads, trails, and travel management in the planning process previously contained at section 13.13f. The interim directive adds direction related to the requirement in the travel management regulations, at 36 CFR 212.5(b) to identify a minimum road system to be documented in the forest transportation atlas.

Section 13.13f Land Use and Special Uses. This section was section 13.3g of the existing chapter 10 of this handbook. The interim directive clarifies existing direction about land use and special uses in the planning process previously contained at section 13.13g. The interim directive adds requirement that if the administrative unit proposes to recommend adjustment in the national forest boundary that Washington Office notice is required.

Section 13.2. The interim directive removes this section on individual resource analytical tools because the information about tools has been moved to appropriate places within section 13.

Regulatory Certifications

Regulatory Impact

This interim directive has been reviewed under USDA procedures and Executive Order 12866, Regulatory Planning and Review. It has been determined that this is not a significant action. This interim directive to clarify agency guidance would not have an annual effect of $100 million or more on the economy nor adversely affect productivity, competition, jobs, the environment, public health or safety, nor State or local governments. This interim directive would not interfere with an action taken or planned by another agency nor raise new legal or policy issues. Finally, this interim directive would not alter the budgetary impact of entitlements, grants, user fees, or loan programs or the rights and obligations of recipients of such programs. Accordingly, this proposed action is not subject to Office of Management and Budget review under Executive Order 12866.

Moreover, this proposed action has been considered in light of the Regulatory Flexibility Act (5 U.S.C. 601 et seq.), and it has been determined that this proposed action would not have a significant economic impact on a substantial number of small entities as defined by the act because it will not impose recordkeeping requirements on them; it would not affect their competitive position in relation to large entities; and it would not affect their cash flow, liquidity, or ability to remain in the market.

Environmental Impact

This interim directive to Forest Service Handbook (FSH) 1909.12, chapter 10, clarifies direction and guides agency employees on writing plan components, on describing the monitoring program, and on considering individual resources. This interim directive amends Forest Service Handbook 1902.12, chapter 10. The intended effect of issuance of this interim directive is to provide consistent overall guidance to Forest Service line officers and employees in developing, amending, or revising land management plans for units of the National Forest System about land management planning. Title 36, Code of Federal Regulations, section 220.6(d)(2) excludes from documentation in an environmental assessment or environmental impact statement “Rules, regulations, or policies to establish servicewide administrative procedures, program processes, or instructions” (73 FR 43084, July 24, 2008). The Agency's conclusion is that this interim directive, which simply sets out guidance for the planning process and makes no resource management decisions, falls within this category of actions and that no extraordinary circumstances exist as currently defined that require preparation of an environmental assessment or an environmental impact statement.

Unfunded Mandates

Pursuant to Title II of the Unfunded Mandates Reform Act of 1995 (2 U.S.C. 1531-1538), which the President signed into law on March 22, 1995, the Agency has assessed the effects of this interim directive on State, local, and tribal governments and the private sector. This interim directive would not compel the expenditure of $100 million or more by any State, local, or tribal government or anyone in the private sector. Therefore, a statement under section 202 of the act is not required.

Controlling Paperwork Burdens on the Public

This interim directive does not contain any additional recordkeeping or reporting requirements associated with National Forest System land management planning or other information collection requirements as defined in 5 CFR part 1320 that are not already required by law or not already approved for use. The Office of Management and Budget (OMB) (Number 0596-00158) has approved the information collection associated with the submitting an objection under the planning rule (36 CFR part 219). Accordingly, the review provisions of the Paperwork Reduction Act of 1995 (44 U.S.C. 3501 et seq.) and its implementing regulations at 5 CFR part 1320 do not apply.

Conclusion

This interim directive provides consistent interpretation of the planning rule for line and staff officers, and interdisciplinary teams. Therefore, the Agency can fulfill its commitment to improve public involvement and decisionmaking associated with developing, amending, or revising a land management plan.

The full text of this handbook is available on the World Wide Web at http://www.fs.fed.us./im/directives. Single paper copies are available upon request from the address and telephone numbers listed earlier in this notice as well as from the nearest regional office, the location of which are also available on the Washington Office headquarters homepage on the World Wide Web at http://www.fs.fed.us.

Dated: October 9, 2008.
Abigail R. Kimbell,
Chief, Forest Service.

[FR Doc. E8-26939 Filed 11-12-08; 8:45 am]

BILLING CODE 3410-11-P